DEPARTMENT OF COMMERCE

International Trade Administration

[A-489-501]

Welded Carbon Steel Standard Pipe and Tube Products From Turkey: Preliminary Results of Antidumping Duty Administrative Review; 2011-2012

AGENCY: Import Administration, International Trade Administration, U.S. Department of Commerce.

SUMMARY: In response to a request by interested parties,¹ the Department of Commerce (the Department) is conducting an administrative review of the antidumping duty order on welded carbon steel standard pipe and tube products (welded pipe and tube) from Turkey.² The period of review is May 1, 2011, to April 30, 2012. This review covers four respondents: Borusan, Erbosan, Toscelik, and Yucel.³ The Department preliminarily finds that Toscelik and Yucel had no shipments. We preliminarily determine that Borusan ⁴ made sales below normal value and Erbosan did not. The preliminary results are listed below in the section titled “Preliminary Results of Review.”

¹ Wheatland Tube Company, United States Steel Corporation, and Erbosan Erciyas Boru Sanayi ve Ticaret A.S.

² See Initiation of Antidumping and Countervailing Duty Administrative Reviews and Request for Revocation in Part, 77 FR 40565 (July 10, 2012).

³ The Department initiated a review on the Borusan Group and all affiliates, which includes Borusan Mannesmann Boru Sanayi ve Ticaret A.S., Borusan Istikbal Ticaret T.A.S., Borusan Holding A.S., and Borusan Lojistik Dagitim Depolama Tasimacilik ve Tic A.S. (collectively, Borusan); ERBOSAN Erciyas Boru Sanayi ve Ticaret A.S. (Erbosan); Toscelik Profil ve Sac Endustisi A.S., Toscelik Metal Ticaret A.S., Tosyali Dis Ticaret A.S. (collectively, Toscelik); the Yucel Group and all affiliates, Cayirova Boru Sanayi ve Ticaret A.S., Yucel Boru ve Profil Endustrisi A.S., and Yucelboru Ihracat Ithalat ve Pazarlama A.S. (collectively, Yucel.).

⁴ We note that of the Borusan entities, only Borusan Mannesman Boru Sanayi ve Ticaret A.S. (BMB) had reviewable sales during this period of review.

DATES: As of June 7, 2013.

FOR FURTHER INFORMATION CONTACT: Fred Baker, Victoria Cho, or Robert James at (202) 482-2924, (202) 482-5075, or (202) 482-0649, respectively; AD/CVD Operations, Office 7, Import Administration, International Trade Administration, U.S. Department of Commerce, 14th Street and Constitution Avenue NW., Washington, DC 20230.

SUPPLEMENTARY INFORMATION:

Scope of the Order ⁵

⁵ Beginning in 1996, we note we inadvertently used an incorrect case name and incorrect scope language in many of our notices in this case. The Department is using the original and correct case name and scope in this segment, as reflected in the original 1986 order. See Antidumping Duty Order; Welded Carbon Steel Standard Pipe and Tube Products from Turkey, 51 FR 17784 (May 15, 1986).

The merchandise subject to the order is welded pipe and tube. The welded pipe and tube subject to the order is currently classifiable under subheading 7306.30.10.00, 7306.30.50.25, 7306.30.50.32, 7306.30.50.40, 7306.30.50.55, 7306.30.50.85, and 7306.30.50.90 of the Harmonized Tariff Schedule of the United States (HTSUS). The HTSUS subheading is provided for convenience and customs purposes. A full description of the scope of the order is contained in the memorandum from Christian Marsh, Deputy Assistant Secretary for Antidumping and Countervailing Duty Operations, to Ronald K. Lorentzen, Acting Assistant Secretary for Import Administration, “Decision Memorandum for Preliminary Results of Antidumping Duty Administrative Review: Welded Carbon Steel Standard Pipe and Tube Products from Turkey; 2011-2012 Administrative Review” (Preliminary Decision Memorandum), which is hereby adopted by this notice. The written description is dispositive.

The Preliminary Decision Memorandum is a public document and is on file electronically via Import Administration's Antidumping and Countervailing Duty Centralized Electronic Service System (IA ACCESS). Access to IA ACCESS is available to registered users at http://iaaccess.trade.gov and is available to all parties in the Central Records Unit, room 7046 of the main Department of Commerce building. In addition, a complete version of the Preliminary Decision Memorandum can be accessed directly on the Internet at http://www.trade.gov/ia/. The signed Preliminary Decision Memorandum and the electronic versions of the Preliminary Decision Memorandum are identical in content.

Methodology

The Department has conducted this review in accordance with section 751(a)(2) of the Tariff Act of 1930, as amended (the Act). Export price is calculated in accordance with section 772 of the Act. Normal value (NV) is calculated in accordance with section 773 of the Act.

To determine the appropriate comparison method, the Department applied a “differential pricing” analysis and has preliminarily determined to use the average-to-transaction method in making comparisons of export price and normal value for Borusan and the average-to-average method in making comparisons of export price and normal value for Erbosan.

For a full description of the methodology underlying our conclusions, see the Preliminary Decision Memorandum.

Preliminary Determination of No Shipments

Toscelik and Yucel, in letters dated August 20, 2012, reported that they made no shipments, entries or sales of subject merchandise during the POR. On September 24, 2012, the Department issued a “No Shipment Inquiry” to U.S. Customs and Border Protection (CBP) to confirm that there were no entries of welded pipe and tube from Turkey exported by Toscelik or Yucel during the POR. In addition, we obtained other documentation from CBP to evaluate the accuracy of Toscelik's and Yucel's no shipment claims.

Based on the certification of Toscelik and Yucel and our analysis of CBP information, we preliminarily determine that Toscelik and Yucel had no shipments during the POR.

However, consistent with our practice, the Department finds that it is not appropriate to rescind the review with respect to Toscelik and Yucel, but rather to complete the review with respect to Toscelik and Yucel and issue appropriate instructions to CBP based on the final results of this review.

Preliminary Results of Review

As a result of this review, we preliminarily determine that the weighted-average dumping margins for the period May 1, 2011, through April 30, 2012, are as follows:

Manufacturer/exporter | Weighted-average dumping margin (percent)
Borusan | 3.67
Erbosan | 0.00

Disclosure and Public Comment

The Department will disclose to interested parties the calculations performed in connection with these preliminary results within five days of the date of publication of this notice.⁶ Pursuant to 19 CFR 351.309(c), interested parties may submit cases briefs no later than 30 days after the date of publication of this notice.⁷ Rebuttal briefs, limited to issues raised in the case briefs, may be filed not later than five days after the date for filing case briefs.⁸ Parties who submit case briefs or rebuttal briefs in this proceeding are encouraged to submit with each argument: (1) A statement of the issue; (2) a brief summary of the argument; and (3) a table of authorities.⁹ Case and rebuttal briefs should be filed using IA ACCESS.¹⁰

⁶ See 19 CFR 351.224(b).

⁷ See 19 CFR 351.309(c)(ii).

⁸ See 19 CFR 351.309(d).

⁹ See 19 CFR 351.309(c)(2) and (d)(2).

¹⁰ See 19 CFR 351.303.

Pursuant to 19 CFR 351.310(c), interested parties who wish to request a hearing, or to participate if one is requested, must submit a written request to the Assistant Secretary for Import Administration, filed electronically via IA ACCESS. The Department's electronic records system, IA ACCESS, must successfully receive an electronically-filed document in its entirety by 5 p.m. Eastern Daylight Time within 30 days after the date of publication of this notice.¹¹ Requests should contain: (1) The party's name, address, and telephone number; (2) the number of participants; and (3) a list of issues to be discussed. Issues raised in the hearing will be limited to those raised in the respective case briefs. The Department will issue the final results of this administrative review, including the results of its analysis of the issues raised in any written briefs, not later than 120 days after the date of publication of this notice, pursuant to section 751(a)(3)(A) of the Act.

¹¹ See 19 CFR 351.310(c).

Assessment Rates

Upon completion of the administrative review, the Department shall determine, and CBP shall assess, antidumping duties on all appropriate entries in accordance with 19 CFR 351.212(b)(1). We intend to issue instructions to CBP 15 days after the date of publication of the final results of this review.

If Borusan's or Erbosan's weighted-average dumping margins are not zero or de minimis (i.e., less than 0.5 percent) in the final results of this review, we will calculate importer-specific assessment rates on the basis of the ratio of the total amount of dumping calculated for the importer's examined sales and the total entered value of the sales in accordance with 19 CFR 351.212(b)(1). Where either a respondent's weighted-average dumping margin is zero or de minimis, or an importer-specific assessment rate is zero or de minimis, we will instruct CBP to liquidate the appropriate entries without regard to antidumping duties.

The Department clarified its “automatic assessment” regulation on May 6, 2003.¹² This clarification will apply to entries of subject merchandise during the POR produced by Borusan and Erbosan for which these companies did not know that the merchandise was destined for the United States. In such instances, we will instruct CBP to liquidate unreviewed entries at the all-others rate if there is no rate for the intermediate company(ies) involved in the transaction. Further, instead of rescinding the review with respect to Toscelik and Yucel, we find it appropriate to complete the review and issue liquidation instructions to CBP concerning entries for Toscelik and Yucel following issuance of the final results of review. If we continue to find that Toscelik and Yucel had no shipments of subject merchandise in the final results, we will instruct CBP to liquidate any existing entries of merchandise produced by Toscelik and Yucel, but exported by other parties at the rate for the intermediate reseller, if available, or at the all-others rate.¹³

¹² For a full discussion of this clarification, see Antidumping and Countervailing Duty Proceedings: Assessment of Antidumping Duties, 68 FR 23954 (May 6, 2003).

¹³ See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

Cash Deposit Requirements

The following cash deposit requirements will be effective for all shipments of the subject merchandise entered, or withdrawn from warehouse, for consumption on or after the publication date of the final results of this administrative review, as provided by section 751(a)(2)(C) of the Act: (1) The cash deposit rate for Borusan and Erbosan will be equal to the weighted-average dumping margin established in the final results of this review, except if the rate is de minimis within the meaning of 19 CFR 351.106(c)(1), in which case the cash deposit rate will be zero; (2) for other manufacturers and exporters covered in a prior segment of the proceeding, the cash deposit rate will continue to be the company-specific rate published for the most recently completed segment of this proceeding in which that manufacturer or exporter participated; (3) if the exporter is not a firm covered in this review, a prior review, or the original less-than-fair-value (LTFV) investigation, but the manufacturer is, the cash deposit rate will be the rate established for the most recently completed segment of this proceeding for the manufacturer of subject merchandise; and (4) the cash deposit rate for all other manufacturers or exporters will continue to be 14.74 percent, the all-others rate established in the LTFV investigation.¹⁴ These deposit requirements, when imposed, shall remain in effect until further notice.

¹⁴ See Antidumping Duty Order; Welded Carbon Steel Standard Pipe and Tube Products From Turkey, 51 FR 17784, 17784 (May 15, 1986).

Notification

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: May 31, 2013.
Ronald K. Lorentzen,
Acting Assistant Secretary for Import Administration.

Appendix

List of Topics Discussed in the Preliminary Decision Memorandum

1. Summary

2. Background

3. Scope of the Order

4. Preliminary Determination of No Shipments

5. Verification

6. Comparisons to Normal Value

7. Determination of Comparison Method

8. Results of the Differential Pricing Analysis

9. Product Comparisons

10. Export Price

11. Normal Value

12. Cost of Production Analysis

13. Calculation of Normal Value Based on Home Market Prices

14. Recommendation

[FR Doc. 2013-13566 Filed 6-6-13; 8:45 am]

BILLING CODE 3510-DS-P